DEPARTMENT OF HOUSING AND URBAN DEVELOPMENT

[Docket No. FR-4769-N-02]

HUD Final Information Quality Guidelines

AGENCY: Office of the Assistant Secretary for Administration/Chief Information Officer, HUD.

ACTION: Notice.

SUMMARY: This notice announces HUD's final guidelines for ensuring and maximizing the quality, objectivity, utility, and integrity of information disseminated to the public by HUD (“Information Quality Guidelines”). The notice follows publication of a May 30, 2002, Federal Register notice inviting public comment on HUD's draft Information Quality Guidelines, and takes into consideration the public comments received on the earlier notice.

DATES: Effective Date: November 18, 2002.

FOR FURTHER INFORMATION CONTACT: Linda Ciancio, Office of Departmental Grants Management and Oversight, Office of Administration, Department of Housing and Urban Development, Room 3156, 451 Seventh Street, SW., Washington, DC 20410-0500; telephone: (202) 708-0667 (this is not a toll-free number). Hearing- or speech-impaired individuals may access this number via TTY by calling the toll-free Federal Information Relay Service at 800-877-8399.

SUPPLEMENTARY INFORMATION:

I. Background

Section 515 of the Treasury and General Government Appropriations Act for Fiscal Year 2001 (Pub. L. 106-554) directed the Office of Management and Budget (OMB) to issue government-wide guidelines that “provide policy and procedural guidance to federal agencies for ensuring and maximizing the quality, objectivity, utility, and integrity of information (including statistical information) disseminated by federal agencies.” Within one year after OMB issues its guidelines, agencies must issue their own guidelines that will describe internal mechanisms by which agencies will ensure that their information meets the standards of quality, objectivity, utility, and integrity. The mechanism also must allow affected persons to seek and obtain correction of information maintained and disseminated by the agency that does not comply with the guidelines.

OMB issued its final guidelines on September 28, 2001 (66 FR 49718), but requested additional comment on one component of the OMB guidelines.The OMB guidelines addressing additional public comment were published on January 3, 2002 (67 FR 369), and republished on February 22, 2002 (67 FR 6452). In accordance with the statute, agencies must issue their final guidelines by October 1, 2002. The agencies' draft guidelines need not be published in the Federal Register but agencies should provide notification in the Federal Register that the draft guidelines are available on agencies' Web sites.

II. HUD's Information Quality Guidelines

HUD announced the availability of its draft guidelines for review and comment on HUD's website through a Federal Register notice published on May 30, 2002 (67 FR 37851). The May 30, 2002, notice solicited public comments through July 1, 2002. HUD announced the extension of this public comment period by Federal Register notice published on June 17, 2002, (67 FR 41255). The June 17, 2002, notice solicited public comments through July 17, 2002. This notice makes HUD's final guidelines available to the public. This notice also notifies the public of the significant changes made as a result of internal HUD review, the public comments received on HUD's draft guidelines, and OMB comments received on HUD's proposed final guidelines.

III. Discussion of Public Comments on HUD's Draft Information Quality Guidelines

In response to the draft guidelines, HUD received five public comments. The comments received involved a number of different sections of the draft guidelines. Comments were received from: A public interest group, a legal services organization, a coalition of organizations representing health, safety, civil rights, and environmental concerns, a mortgage company, and an association of home builders. A more detailed discussion of these comments follows:

A. General Comments

Several general comments were received urging HUD to use, or adhere more strictly to the statutory terms, language, and definitions contained in OMB's interagency guidelines, including the definition and treatment of the terms “quality” and “affected persons.” Various sections of the final guidelines were modified to address these comments.

Three comments were received generally urging HUD to avoid incorporating existing policies and procedures into new information quality requirements but rather to establish new, stand-alone policies and procedures to apply to the quality, objectivity, utility, and integrity of information HUD disseminates to the public. Another comment urged HUD to retain maximum flexibility in implementing OMB guidelines by incorporating the standards and procedures required by these guidelines into existing information resource management and administrative practices. In developing its final guidelines, HUD noted that OMB generally states in its guidelines to federal agencies that it designed its guidelines to be adaptable to a wide variety of government information dissemination activities, generic, and non-prescriptive, thus allowing agencies the flexibility to incorporate the requirements of the OMB guidelines into the agencies' own information resource management and administrative practices. HUD considered this when addressing the above comments by slight modifications that make it explicit that the Department's existing clearance and approval procedures for information disseminated to the public clearly address the requirements of section 515 and the OMB guidelines. Therefore, the guidelines do not replace existing HUD procedures but rather reaffirm HUD's existing procedures and the agency's adherence to them.

B. Designated Official

Four comments were received generally urging HUD to provide more detailed contact information for the designated official, to more clearly define the responsible parties and the procedures they will use to ensure quality, and to assign the General Counsel the responsibility for compliance with OMB's final guidelines. With the exception of the latter comment, numerous modifications were made throughout the guidelines to address these comments.

C. Performance Measurement

Three comments were received concerning adopting the guidelines as performance standards. In response to these comments, HUD revised the section of the guidelines titled “Purpose,” to state “HUD reviews the standards defined in these guidelines as performance measures and will seek to attain the standards as defined. In implementing these guidelines, HUD acknowledges that ensuring the quality of information is a management objective as important as any other for the Department, including the success of agency missions and observing budget and resources priorities and restraints. HUD will implement these guidelines so that they complement and support all other Departmental objectives.”

D. Administrative Correction Mechanism

Approximately fifteen comments were received from three respondents concerning the mechanism for requesting information dissemination corrections and the mechanism for processing information dissemination corrections requests. Seven of the comments received generally recommended that HUD's guidelines should provide more clarity and/or add more structure to the process by: (1) Designating an official through which complaints and responses to complaints could be submitted; (2) establishing a formal, independent board to review and act on appeals in an “ombudsman” capacity; (3) more clearly defining terms to ensure that affected persons consistently receive corrections in a timely manner; (4) defining an objective standard for HUD decision-makers to follow when determining the degree and manner in which the disseminated information will be corrected; (5) expressly stating that separate HUD offices and officials shall resolve initial decisions and disagreements on appeals for correcting information; (6) notifying the public or establishing a running public docket of correction requests and changes; and, (7) providing detailed descriptions about how correction requests will be reviewed, who will conduct the reviews, what standards will be used, and how such reviews will be supervised.

One respondent submitted the remaining eight comments on this topic and all eight comments strongly urged HUD to construct these mechanisms cautiously with adequate procedural safeguards to protect the agency from becoming mired down in minor data disputes, bad faith, frivolous, repetitive, or non-timely requests. Further, the respondent recommended limiting the mechanism to only what is required in the Data Quality Act so as to avoid any possibility of creating new rights under administrative law. The eight comments stated that HUD: (1) Should clearly state that the burden of proof lies squarely with the requestor to demonstrate both that they are an affected party and that the challenged information does not comply with OMB's guidelines; (2) limit the administrative mechanism to corrections of factual data and information, and explicitly state that administrative mechanisms will not consider interpretations of data and information, or requests for de-publishing; (3) should limit complaints to information that is not already subject to existing data quality programs and measures; (4) state that similar requests previously responded to may be rejected as frivolous or duplicative; (5) should establish a timeliness requirement for requests after which the agency has the option to reject a request; (6) should limit complaints for any data quality standard that presents a potential moving target (i.e., best available evidence) to information available at the time of dissemination; (7) should specifically state that responses to correction requests will be proportional to the significance and importance of the information in question; and (8) should establish a fairly informal reconsideration process consistent with the fact that neither the initial consideration nor the agency's reconsideration is a legally enforceable process as the Data Quality Act does not address reconsideration of complaints and that such a requirement is far outside the scope of the statutory requirements.

In response to these 15 comments, the guidelines were modified under the section titled “Designated Official” to include specific language stating that HUD Assistant Secretaries are responsible for ensuring implementation of the guidelines within their respective areas of responsibility. The guidelines were further modified under the section titled “Process for Requesting Correction to Disseminated Information” by adding subsections titled “Submitting Requests,” “Rejecting Requests,” “Processing Requests,” and “Appealing Corrective Decisions.” These subsections set forth specific requirements for the information to be submitted in an information dissemination request, the criteria HUD will use for determining valid correction requests, the process HUD will follow for processing requests determined to be valid, the process for appealing corrective decisions, and the procedures HUD will use for processing requests appealing corrective decisions. Further, these subsections specifically designate the responsible HUD official(s) at each stage of the described process.

E. Definition and Standard for “Dissemination”

Four commenters submitted comments on the definition and standard for “dissemination.” One comment stated that the exemptions were too broad and encompassing to be consistent with the new Information Quality Guidelines and that the guidelines should explain what is meant by “statutorily mandated issuances.” Two other comments generally stated that Congress intended the Data Quality Act standards to apply to all public information despite OMB's exemption of some types and categories of information in its interagency guidelines. Other comments stated that HUD should: (1) Make every effort to clearly assert the limits of these guidelines and preserve the agency's flexibility to accomplish core mandates unfettered; (2) clearly state that the agency does not consider the guidelines judicially reviewable, and that they do not provide any new adjudicatory authority, and (3) clearly state that the guidelines apply to information disseminated from the agency itself and not when the agency is merely acting as a conduit of information. Two commenters stated some uncertainty concerning the applicability of the guidelines to staff working papers made available to the public, including working papers posted on the HUD website. These comments argued that such papers are subject to the guidelines if made available to the public, unless an explicit disclaimer is included in the papers.

In response to these comments and further direction received from OMB on its interagency guidelines, the guidelines were modified under the section titled “Definitions and Standards,” subsection titled “Dissemination” by: (1) Adding specificity to the exemptions listed; (2) adding two exemptions for (a) information presented to Congress as part of the legislative or oversight processes (e.g., testimony of HUD officials, information or drafting assistance provided to Congress in connection with pending proposed legislation) that is not simultaneously disseminated to the public, and (b) procedural, operational, policy, and internal manuals prepared for the management and operations of HUD that are not primarily intended for public dissemination; (3) providing an example of a statutorily mandated issuance; (4) adding language explicitly stating that the guidelines do not impose any additional requirements on HUD during adjudicative proceedings and do not provide parties to such adjudicative proceedings any additional rights of challenge or appeal; and (5) adding new requirements in the guidelines for working papers disseminated or otherwise made available to the public to carry a clear legend indicating that the papers represent the opinions of the author and are not the agency's official views.

F. Influential Information

Several comments were received concerning “influential information.” One comment concerned the quality standards to be applied to information deemed “influential.” Another comment recommended that the guidelines set clear standards for “influential” information and explain how the requisite criteria for “transparency” and “reproducibility” would be achieved. Related to these comments were comments concerning the need for the guidelines to discuss how the agency will implement enhanced standards for influential information, including “transparency” and “reproducibility” or internal “robustness checks” if privacy, confidentiality, or proprietary concerns prevent disclosure of certain information, making transparency and reproducibility infeasible. Another comment suggested that the agency adopt procedures for identifying influential information. Finally, one comment urged HUD to avoid labeling information as “influential.”

Several areas of the guidelines were modified to address these comments. The “quality” definition and standard was enhanced by including transparency and reproducibility under the “objectivity” aspect of this standard. Peer review was more thoroughly defined to include ensuring that such reviews meet the general criteria recommended by OMB to the President's Management Council on September 20, 2001. A definition and standard was added for robustness checks for disseminated influential information when transparency and reproducibility are infeasible. A definition and standard was added for influential information setting forth specific guidelines for determining whether scientific, financial, or statistical information is influential within the meaning of OMB's guidelines, thus determining the level of scrutiny and pre-dissemination review afforded such information. Finally, the guidelines were modified to reflect that each HUD Assistant Secretary is responsible for determining what constitutes influential information, for developing and documenting specific review and approval procedures for information deemed influential, and to state that these responsibilities and authorities may not be delegated.

G. Risk Assessment Information Relating to Human Health, Safety, or the Environment

Two comments from different respondents were received concerning inclusion of the quality principles of the Safe Drinking Water Act (SDWA) for risk assessment information relating to human health, safety, or the environment. One comment suggested that HUD either adopt or adapt the quality principles of the SDWA as required by the OMB guidelines, while the other comment urged HUD to “adapt” the SDWA standards, further stating that OMB exceeded the congressional mandate and inappropriately asked agencies to either adopt or adapt the SDWA principles. These comments were addressed in the guidelines under the “reproducibility” definition and standard by stating that HUD will use the best available, peer-reviewed science and supporting studies conducted in accordance with sound and objective scientific practices, and data collected by the accepted methods or best available methods (if the reliability of the method and the nature of the decision justifies use of the data).

IV. HUD's Final Information Quality Guidelines

HUD's final Information Quality Guidelines are as follows—

U.S. Department of Housing and Urban Development Final Guidelines for Ensuring and Correcting the Quality of Information (Information Quality Guidelines)

I. Purpose

These guidelines fulfill the requirements of Section 515 of the Treasury and General Government Appropriations Act for Fiscal Year 2001 (Public Law 106-554, H.R. 5658, hereafter referred to as section 515), requiring federal agencies to issue implementing guidelines for ensuring and maximizing the quality, objectivity, utility, and integrity of information they disseminate.

The Department of Housing and Urban Development is committed to ensuring and maximizing the quality, utility, objectivity, and integrity of all information it disseminates to the public. To accomplish this objective, HUD is issuing these guidelines that the Department will follow for reviewing and substantiating the quality of information before it is disseminated to the public. In addition, these guidelines establish an administrative correction procedure by which an affected person may seek and obtain the correction of any information disseminated by HUD that does not comply with these guidelines or the existing clearance and approval procedures the guidelines reference.

HUD views the standards defined in these guidelines and those of the Office of Management and Budget as performance measures and will strive to meet these standards. In implementing these guidelines, HUD acknowledges that ensuring the quality of information is a management objective as important as any other for the Department including the success of agency missions and observing budget and resource priorities and restraints. HUD will implement these guidelines so that they complement and support all other Departmental objectives.

The Department's existing clearance and approval procedures for information disseminated to the public clearly address the requirements of section 515 and the OMB guidelines. Therefore, these guidelines do not replace existing HUD procedures. Rather, these guidelines simply reaffirm HUD's existing clearance and approval procedures for easy reference, to help ensure adherence to them, and thus ensure quality information products. Where HUD's existing clearance and approval procedures do not meet the intent of section 515, new pre-dissemination clearance and approval procedures are described. These new procedures are identified as such.

II. Authority

Section 515 of the Treasury and General Government Appropriations Act for Fiscal Year 2001 (Public Law 106-554; 114 Stat. 2763).

III. Background

Section 515 directs OMB to issue government-wide guidelines that “provide policy and procedural guidance to federal agencies for ensuring and maximizing the quality, objectivity, utility, and integrity of information (including statistical information) disseminated by federal agencies.” Agencies are required to issue their own implementing guidelines within one year after OMB issues its guidelines. For the convenience of the reader, OMB's final guidelines can be found on: http://www.whitehouse.gov/omb/ fedreg/final_information_ quality_guidelines.html.

Section 515 also requires that agency guidelines include “administrative mechanisms allowing affected persons to seek and obtain correction of information maintained and disseminated by the agency.” OMB required agencies to prepare a draft report including their implementing guidelines no later than May 1, 2002. HUD developed these guidelines to meet this requirement. The goal of these guidelines is to ensure that information disseminated by HUD will be:

• Useful to the intended users;

• Presented in an accurate, reliable, and unbiased manner as a matter of substance and presentation; and,

• Protected from unauthorized access or revision.

IV. Designated Official

HUD's Assistant Secretary for Administration/Chief Information Officer serves as the agency official charged with overseeing HUD's compliance with OMB guidelines for the quality of information disseminated. HUD Assistant Secretaries, individuals of equivalent rank, or Assistant Secretary designates (hereinafter “HUD Assistant Secretaries”), are responsible for ensuring implementation of these guidelines within their respective areas of responsibility. With respect to Office of Inspector General (OIG) information, however, the Inspector General is ultimately responsible for ensuring OIG information is objective, useful, and has integrity, and for determining whether such information should be corrected.

V. Effective Date

As provided in OMB's guidelines, these guidelines apply only to information HUD disseminates on or after October 1, 2002, including the review of information to ensure quality before it is disseminated to the public. While previously released materials will continue to be used for decision-making and relied upon by the Department and the public as official, authoritative, government information, the materials are, in effect, constantly being re-disseminated and thus subject to these guidelines. Previously released information materials that do not meet these criteria are considered archived information and thus are not subject to these guidelines or to the request for correction process.

VI. Policy

HUD will ensure that the information it disseminates to the public is objective (accurate, clear, complete, and unbiased), useful, and has integrity. Additional levels of quality standards may be adopted, as appropriate, for specific categories of disseminated information.

VII. Definitions and Standards

A. Information

Any communication or representation of knowledge such as facts or data, conveyed in any form or medium, including textual, numerical, graphic, cartographic, narrative, or audiovisual, whether on paper, film, or electronic media, and whether disseminated via facsimile (fax), recording, machine-readable data, or website. This does not include hyperlinks provided to information originated by or in the custody of someone other than HUD. Information does not include opinion, unless that opinion is HUD's official point of view.

B. Dissemination

Affirmative distribution to the public initiated or sponsored by HUD acting as a publisher, rather than release of information in response to a request from the public. HUD “sponsors” distribution of information if HUD collects the information, causes another agency to collect the information, contracts or enters into a cooperative agreement with a person to collect the information, or requires a person to provide information to someone else. HUD also sponsors information if HUD causes someone else to obtain, solicit, or require disclosure of information by or for HUD to third parties or to the public.

The standards of these guidelines apply not only to information that HUD generates, but also to information that other parties provide to HUD, if the other parties seek to have the Department rely upon or disseminate this information or the Department decides to do so. For example, in commenting on a proposed rule, a trade association supplies a scientific or technical analysis in support of its position on what the final rule should say. In order for HUD to rely upon this information in a subsequent HUD dissemination of information (e.g., as part of the basis cited for decisions in the final rule), the quality of the trade association's information would have to be consistent with these guidelines. Likewise, if the Department disseminates information originally created by a non-HUD party (e.g., contractor or consultant), this disseminated information would be subject to these guidelines.

Dissemination does NOT include the following types of information and hence this information is not subject to these guidelines:

• Release of information to government employees, agency contractors, or grantees, where such information is restricted or limited to these entities;

• Dissemination intended for intra- or interagency use or sharing of government information;

• Information released under the Freedom of Information Act (FOIA), the Privacy Act, the Federal Advisory Committee Act, or similar law;

• Dissemination limited to correspondence with individuals or persons (regardless of media, example electronic mail);

• Press releases and other information of an ephemeral nature, advising the public of an event or activity of a finite duration—regardless of medium;

• Archival records disseminated by federal agency libraries or similar federal data repositories (e.g., inactive or historical materials in HUD libraries and other data collections—including bibliographies or responses to reference requests pertaining to such materials);

• Library holdings;

• Public filings;

• Distributions intended to be limited to subpoenas or adjudicative processes and decisions;

• Information presented to Congress as part of the legislative or oversight processes (e.g., testimony of HUD officials, information or drafting assistance provided to Congress in connection with pending or proposed legislation) that is not simultaneously disseminated to the public;

• Statutorily mandated issuances (e.g., HUD's Five Year Strategic Plan);

• HUD's release of third party information, views, or opinions, that are clearly identified as information that is not produced or sponsored by HUD; and,

• Procedural, operational, policy, and internal manuals prepared for the management and operations of HUD that are not primarily intended for public dissemination.

These guidelines do not impose any additional requirements on HUD during adjudicative proceedings and do not provide parties to such adjudicative proceedings any additional rights of challenge or appeal.

C. Quality

Encompasses three main aspects of information—utility, objectivity, and integrity, as described below.

1. Utility. Usefulness of the information to its intended users, including the public, measured by reference to established criteria, such as accessibility or timeliness.

2. Objectivity. Accuracy, completeness, reliability, clarity, and lack of bias in the collection, manipulation, contextual presentation of information, and substance with appropriate levels of statistical or scientific objectivity for the type and importance of the information disseminated.

Objective presentation means that information is presented within a proper context to ensure an accurate, clear, complete, and unbiased presentation. Objective substance means the information, data, the analytical process, and the resulting reports are accurate, reliable, and unbiased.

HUD aims to provide objective information but it is important to note that HUD must sometimes rely on outside data that it is unable to duplicate or control due to certain circumstances (e.g., cost). Nonetheless, HUD will seek to make publicly available the sources (to the extent possible, consistent with confidentiality protections), data, and methods/models used to develop the information so that the public can judge for itself whether there may be some reason to question the objectivity of the sources. This will ensure a high degree of transparency about the data and methods such that an independent reanalysis could be undertaken by a qualified member of the public. Making the data and methods publicly available will assist in determining whether analytic results are reproducible. However, the objectivity standard does not override other compelling interests such as privacy, trade secrets, intellectual property, and other confidentiality protections.

Scientific or statistical information should be presented with supporting data and models to allow intended users to assess the objectivity of the information sources without revealing trade secrets or violating confidentiality and privacy.

Disseminated analytical results that do, or may, have an important effect on development of governmental or private sector policies, or have important consequences for specific technologies, substances, products, or firms, must be capable of being substantially reproduced. This means that independent reanalysis of original or supporting data using the same methods would generate similar analytical results, within an acceptable range of error or imprecision.

In situations involving influential scientific, financial, or statistical information, where public access to data and methods will not occur due to other compelling interests, HUD Assistant Secretaries shall apply especially rigorous robustness checks to analytic results and document the checks that were undertaken.

Results already subjected to formal, independent peer review, before dissemination, are generally considered to be acceptably objective. Nonetheless, this presumption is rebuttable based on a persuasive showing by a petitioner in a particular instance. That is, the burden of proof is on the affected person petitioning HUD for a correction to disseminated information. If HUD uses a peer review, the review process used will meet the general criteria for competent and credible peer review recommended by OMB to the President's Management Council on September 20, 2001. Namely, that (a) peer reviewers be selected primarily on the basis of necessary technical expertise, (b) peer reviewers be expected to disclose to agencies prior technical/policy positions they may have taken on the issues at hand, (c) peer reviewers be expected to disclose to agencies their sources of personal and institutional funding (private or public sector), and (d) peer reviews be conducted in an open and rigorous manner.

3. Integrity. Refers to protection of information from corruption or falsification by unauthorized access or revision.

D. Robustness Checks

Refers to influential scientific, financial, or statistical information where public access to data and methods will not occur due to other compelling interests. In these situations, HUD Assistant Secretaries shall ensure that the data and methods used to develop the information product are reviewed for: (1) Appropriateness of the methodology; (2) soundness of the analysis and specific analytic methods; (3) soundness of hypotheses and assumptions; (4) statistical procedures; (5) sources of bias or other error, and (6) programmatic and policy implications.

E. Influential Information

The following discussion is intended as guidance to HUD Assistant Secretaries and other interested persons in determining whether scientific, financial, or statistical information is influential within the meaning of OMB's guidelines. This definition is important because it determines the level of scrutiny and pre-dissemination review afforded to information. It is important to emphasize that this term applies only to scientific, financial, or statistical information. The definition does not address other types of information, no matter how important the information may seem to be. It should also be noted that the definition applies to “information” itself, not to HUD decisions that the information may support. That is, even if a decision or action by HUD is itself very important, a particular piece of information supporting it may or may not be “influential.”

The OMB guidelines define “influential” information as information that the agency reasonably can determine “will have or does have a clear and substantial impact on important public policies or important private sector decisions.” The OMB guidelines assign to HUD the task of defining this term in ways appropriate to the agency and its various programs.

HUD emphasizes that, to be influential, information must have a clear and substantial impact. A clear and substantial impact, first of all, is one that has a high probability of occurring. If it is arguable that an impact will occur, or if it is a close judgment call, then the impact is probably not clear and substantial. The impact must be on “important” public policy or private sector decisions. Even if information has a clear and substantial impact, it is not influential if the impact is not on a public or private decision that is important to policy, economic, or other decisions.

Additionally, in determining if information has a clear and substantial impact, HUD will consider two factors—breadth and intensity—in determining whether information is influential.

Every decision that HUD makes based on disseminated information is important to someone. That does not mean that disseminated information used for each decision is influential, as the term is used in the guidelines.

In determining whether information is influential, HUD Assistant Secretaries shall consider whether information affects a broad range of parties. Information that affects a broad, rather than a narrow, range of parties (e.g., an entire industry or a significant part of an industry) is more likely to be influential.

HUD Assistant Secretaries shall also consider whether information has an intense impact or high cost. Information that has a low cost or modest impact on affected parties is less likely to be influential than information that can have a very costly or crucial impact. In considering whether information has a high-intensity impact, HUD Assistant Secretaries shall use the definition of “economic significance” provided in Executive Order (E.O.) 12866, Section 2.f.1, thus using the $100 million figure, as well as other criteria sited in the E.O. definition, to determine the degree of impact. HUD Assistant Secretaries may, however, find this level of intensity in information materials that fall below the benchmark figure.

In most cases, information that has an intense impact on a broad range of parties is regarded as influential. Information that affects a broad range of parties with a low-intensity impact, or information that affects a narrow range of parties with a high-intensity impact, may or may not be influential.

HUD Assistant Secretaries may designate certain classes of information as “influential” or not, in the context of their specific programs. Absent such designations, HUD Assistant Secretaries will determine whether information is influential on a case-by-case basis, using the principles articulated in these guidelines.

The “influential” designation is intended to be applied to information where clearly appropriate. HUD Assistant Secretaries should not designate information products or types of information as influential on a regular or routine basis. Nor should an “influential” label be placed on the title page or text of an information product.

F. Reproducibility

The information is capable of being substantially reproduced, subject to an acceptable degree of imprecision. With respect to analytic results, “capable of being substantially reproduced” means that an independent analysis of the original and supporting data using identical methods would generate similar analytic results, subject to an acceptable degree of imprecision or error. For influential information regarding risks to human health, safety, and the environment, HUD will use the best available, peer-reviewed science and supporting studies conducted in accordance with sound and objective scientific practices, and data collected by the accepted methods or best available methods (if the reliability of the method and the nature of the decision justifies use of the data).

G. Affected Persons

Any person or group who may benefit or be harmed by information disseminated by HUD. This includes persons who are seeking to address information about themselves as well as persons who use information. As defined by the Paperwork Reduction Act of 1995, affected persons include groups, organizations, and corporations.

VIII. Guidelines

A. Scope

HUD will review all information to be disseminated to the public for quality, objectivity, utility, and integrity before the information is disseminated to the public. These guidelines apply to information disseminated by HUD on or after October 1, 2002, regardless of when the agency first disseminated the information. Likewise, the agency's administrative mechanisms for correcting information shall apply to information the agency disseminates on or after October 1, 2002, regardless of when the agency first disseminated the information.

HUD will ensure that the quality of its disseminated information, and its pre-dissemination review process, can be substantiated through documentation or other means appropriate to the information.

These guidelines apply to HUD information dissemination products in all media and formats, including printed, electronic, and audio/visual. Information dissemination products include books, papers, CD-ROMs, electronic documents, or other documentary material disseminated to the public by HUD. The guidelines apply to information disseminated to the public by HUD from a web page, but they do not apply to hyperlinks from the HUD website to information that others disseminate. Nor do the guidelines apply to opinions if it is clear that what is being offered is someone's opinion, rather than fact or the agency's official views. For example, the guidelines do not apply to staff working papers that are preliminary in nature and do not represent the official views of the agency.

B. Process for Ensuring Quality of Information at the Basic Standard

The Section 515 guidelines issued by OMB focus primarily on the dissemination of substantive information (i.e., reports, studies, summaries) rather than information pertaining to basic agency operations. HUD reviews all information dissemination products prior to dissemination and all products are expected to meet the basic OMB and HUD quality standards (see definitions and standards for objectivity, utility, and integrity). HUD currently has few information products that would require a standard of quality higher than the “basic” standard described by the OMB guidelines.

As stated in the “Policy” section of these guidelines, HUD's basic quality standard for information involves objectivity, utility, and integrity. Objectivity has two distinct elements—presentation and substance. First, the information must be presented in an accurate, clear, and unbiased manner. Second, as a matter of substance, the information must be accurate, reliable, and unbiased. To the extent possible, and consistent with confidentiality protections, HUD will identify the source of disseminated information so that the public can assess whether the information is objective. The utility of information refers to its usefulness to its intended users, including the public. Integrity refers to the security of information (i.e., the protection of information from unauthorized access or revision). Security of information helps ensure that the information is not compromised through corruption or falsification.

HUD Assistant Secretaries shall ensure that all information they disseminate to the public meets the basic quality standard. In that regard, they are responsible for ensuring that the pre-dissemination review and clearance process is performed and documented at a level appropriate for the type of information disseminated and in accordance with existing HUD clearance and approval policies and procedures. They will consider the costs and benefits of using a higher quality standard or a more extensive review process in deciding the appropriate level of quality for a given type of information, and the resulting appropriate level of review and documentation. Additionally, when developing information, HUD offices will treat information quality as integral to every step of information development, including creation, collection, maintenance, and dissemination. This will enable the agency to substantiate the quality of the information it has disseminated through documentation or other means appropriate to the information.

With respect to draft information collection packages to be used to generate information products subject to these guidelines, HUD Assistant Secretaries shall ensure that such draft information collection packages submitted for OMB approval result in the information being collected, maintained, and used in a manner that is consistent with these and OMB's guidelines.

C. Disseminating Information That Establishes Program Procedures or Processing Requirements

1. Existing procedures and processing requirements. The policies and procedures outlined below are existing HUD policies and procedures and were designed to ensure the quality of information HUD disseminates to the public. To the extent they apply to disseminated information as defined previously in these guidelines, HUD will assure they meet the standards set forth in these and OMB guidelines.

HUD Directives Handbook, 000.2 REV-2, issued April 18, 2001, entitled “HUD Directives System” outlines the requirements for issuing information that establishes program procedures or processing requirements, whether binding on HUD staff or HUD program participants. It is HUD's policy that HUD Directives must go through Departmental clearance, whether issued as handbooks, direct notices, mortgagee letters, or memoranda, and whether issued in paper or electronic format or posted on HUD's website. HUD Directives advise staff and/or program participants about how to carry out their respective responsibilities under HUD programs or advise potential program participants how to participate in HUD programs. Directives supplement statutes, regulations, and other Federal Register documents. Consistent with HUD policies, HUD Directives will not be used to issue new or revised policy or binding requirements unless there is statutory or regulatory authority to do so. At a minimum, all handbooks, supplements, notices, special directives, and letters clarifying or elaborating on existing procedures or policy and used to issue guidance, are subject to the procedures in the Directives Handbook. HUD Assistant Secretaries are responsible for ensuring compliance with the Directives Handbook. In determining the applicability of, and the requirement for a pre-dissemination review, HUD Assistant Secretaries must ensure that, at a minimum, HUD Directives originating in their offices are cleared in accordance with HUD existing Directives policy. Changes to the Government National Mortgage Association (Ginnie Mae) mortgage-backed securities guide and the multiclass guides shall continue to be issued in accordance with its program procedures.

Furthermore, Chapter 7 of HUD Handbook 2400.1 (revision currently in Departmental clearance) establishes policy for the use of electronic mail (e-mail), limiting its use to (1) brief, informal communications (e.g., an exchange of ideas related to government businesses); (2) coordination (e.g., meetings); and, (3) in place of the telephone and interoffice mail. The General Counsel affirmed this policy in a memorandum dated May 20, 2002, noting that e-mail should not be used to clear a document(s) that evidences policies, decisions, procedures, operations, or other activities of the government. Assistant Secretaries must ensure compliance with this policy.

Questions about whether particular issuances constitute a HUD Directive should be referred to the Office of Administration, which oversees the Departmental clearance of HUD Directives.

The Office of Administration is responsible for ensuring that the pre-dissemination review and clearance process outlined above, and in HUD Handbook 000.2 REV-2, is conducted in accordance with the standards contained in the Handbook and adequately documented.

2. New Procedures and Processing Requirements. Dissemination of information, via automated systems and system user guides and manuals, that creates new procedures or processing requirements or expands upon existing procedures and requirements, is covered by existing HUD policy governing issuances that establish program procedures and processing requirements (see HUD Directives Handbook 000.2 REV 2). As such, these issuances must be approved through the existing clearance and approval processes noted in the guidelines in item “1” immediately above.

D. Disseminating Information That Establishes New HUD Policy or Revises HUD Policy

The policies and procedures outlined in the following paragraph are existing HUD policies and procedures and were designed to ensure the quality of information HUD disseminates to the public. To the extent they apply to disseminated information as defined previously in these guidelines, HUD will assure they meet the standards set forth in these and OMB guidelines. Changes to the Ginnie Mae mortgage-backed securities guide and the multiclass guides shall continue to be issued in accordance with its program procedures.

The Administrative Procedure Act and HUD's Regulations in 24 CFR part 10 require the Department to publish in the Federal Register substantive rules and statements of policy and interpretations of general applicability. The Federal Register is used to announce new or revised policy or binding and enforceable requirements. The Office of General Counsel has responsibility for Departmental pre-dissemination review and clearance procedures for Federal Register publications. Federal Register notices provide the necessary information and instructions to the public for providing comments.

E. Disseminating Information via Press Conferences, Press-Related Events, Editorials, Columns, Letters to the Editor, Speeches, Publications, Newsletters, Reports, Brochures, Videos, the Daily HUD Focus Message, Public Service Announcements and Advertisements, and News Media Contact

1. Existing procedures and processing requirements. The policies and procedures outlined in the following paragraph are existing HUD policies and procedures designed to ensure the quality of information HUD disseminates to the public. To the extent they apply to disseminated information as defined previously in this guidance, HUD will assure they meet the standards set forth in these and OMB guidelines.

All such information is approved by and/or coordinated with the Headquarters' Office of Public Affairs. The “Public Affairs Protocol,” as well as the Office's procedures (both are available on HUD's intranet at the Public Affairs Web page) provides information regarding clearance of the above-mentioned issuances.

With respect to OIG Audit Reports, the OIG has standards and review procedures in place that assure that information disseminated to the public is reviewed for objectivity, utility, integrity, the use of sound statistical methods, and transparency of methods, sources, assumptions, and outcomes. In that regard, the OIG adheres to the Government Auditing Standards, issued by the Comptroller General of the United States (the Yellow Book), and the OIG Audit Operations Manual (IG Manual). The Yellow Book prescribes generally accepted government auditing standards, including auditee review and comment on draft findings and recommendations. The IG Manual establishes the policies and procedures to be followed by the OIG, including the supervisory review of audit working papers and reports and the independent referencing of all audit reports prior to issuance. Headquarters staff also reviews audit reports prior to issuance. Further, the OIG undergoes both management and peer reviews on a recurring basis.

2. New procedures and processing requirements. All working papers disseminated or otherwise made available to the public (e.g., posted on HUD's public web site) are to carry a clear legend indicating that the “papers represent the opinions of the author only and are not the agency's official views.”

F. Disseminating Information via HUD's Public Web Site

As previously noted, these guidelines apply to information disseminated to the public by HUD from a web page, but they do not apply to hyperlinks from the HUD website to information that others disseminate.

1. Existing procedures and processing requirements. The policies and procedures outlined in the paragraph below are existing HUD policies and procedures designed to ensure the quality of information HUD disseminates to the public. To the extent that they apply to disseminated information as defined previously in this guidance, HUD will assure they meet the standards set forth in these and OMB guidelines.

HUD's existing web procedures dated April 30, 1998, and revised September 2, 2001, are available to the public at http://www.hud.gov/library/bookshelf15/policies/wwwpol.cfm. They establish clear responsibility at the Assistant Secretary and Regional Director level for developing and maintaining relevant program information, processes, and local office materials on HUD's Web sites. These policies also require web managers to ensure that materials are properly approved prior to posting, including program policies and procedures.

2. New procedures and processing requirements. HUD is currently formalizing its web posting procedures (including requirements on the types of information that may be posted, publication standards, design guidelines, and accessibility guidelines). These new procedures will be made available to the public.

Meanwhile, it is HUD's policy that the Office of Public Affairs review and provide pre-dissemination approval of all website content of a political or policy nature. It is the responsibility of the appropriate Assistant Secretary or Regional Director to ensure that this review and approval occurs. Additionally, all working papers posted on HUD's public website are to carry a clear legend indicating that the “papers represent the opinions of the author only and are not the agency's official views.”

Text which establishes program procedures, processing requirements, new or revised policy, or binding and enforceable requirements will not be posted to the web without first being approved through the established clearance and approval processes (see “Disseminating Information that Establishes Program Procedures or Processing Requirements” and “Disseminating Information that Establishes New HUD Policy or Revises HUD Policy”). The procedures for removing web postings that are not properly approved will be included in HUD's formal web posting procedures. HUD Assistant Secretaries may request that the responsible posting office remove any Web site content that has not been approved through established clearance and approval processes.

Each Assistant Secretary and Regional Director is responsible for ensuring adherence to these policies. Each must submit written certification that the content of HUD's public website and kiosks for which his/her organization is responsible is both current and accurate. These certifications must be made to the Deputy Secretary on a quarterly basis.

G. Protecting the Integrity of Information via HUD Automated Systems

The policies and procedures outlined in this section are existing HUD policies and procedures designed to ensure the quality of information HUD disseminates to the public. To the extent they apply to disseminated information as previously defined in these guidelines, HUD will assure they meet the standards set forth in these and OMB guidelines.

HUD's information integrity standards ensure that appropriate safeguards are in place to prevent unauthorized access or revision, thus helping to ensure that the information is not compromised through corruption or falsification. HUD's existing information integrity standards are set forth in the following issuances:

1. National Security Information (HUD Handbook 1750.1 Rev-4, CHG-3) dated April 18, 1991. This Handbook identifies methods for ensuring that information disseminated by or on behalf of HUD remains protected. It is available via HUD's Web site at http://www.hudclips.org/subscriber/cgi/legis.cgi?legis.

2. Common Data Element Cleanup Method, A Guidebook Version 1.1 (currently being revised). This Guidebook provides the concepts, step-by-step processes, examples of application, and worksheet forms to guide and assist with a data element cleanup process. It also assists in the information quality management of internal HUD systems and data, including information utility, objectivity, and integrity.

3. Enterprise Security Program Plan. The Plan establishes the framework for developing and implementing a HUD-wide Enterprise Security Program. The Plan outlines the requirements for complying with federal guidelines to protect HUD's critical infrastructure and implementing the HUD Remediation Plan.

4. The Information Systems Security Program Policy. The Policy ensures that adequate security is provided for the information collected, processed, transmitted, stored, or disseminated in HUD's general support systems and major applications. It does this by requiring each HUD office and program area to implement policies, standards, and procedures consistent with government-wide policies, standards, and procedures issued by OMB, the Department of Commerce, the General Services Administration, and the Office of Personnel Management.

H. Process for Ensuring Quality of Information at a Level Higher Than the Basic Standard

The OMB guidelines for implementing Section 515 recognize that some government information may need to meet higher quality standards than the basic standard. The more important the information, the higher the quality standards to which it should be held. In particular, the OMB guidelines require “influential scientific, financial, or statistical information” to meet a high standard of quality. The OMB definition of “influential” is set forth in Section VII, Paragraph E of these guidelines.

HUD is committed to the standards stated in OMB's information quality guidelines, specifically with respect to applying especially rigorous robustness checks to analytic results and to document the checks that were undertaken. At this time, HUD is not prepared to identify the kinds of original and supporting data to be subject to the reproducibility standard. Nonetheless, HUD shall assure reproducibility for those kinds of original and supporting data according to commonly accepted scientific, financial, or statistical standards. Additionally, the standards of these and OMB guidelines apply not only to information that HUD generates, but also to information that other parties provide to HUD, if the other parties seek to have the Department rely upon or disseminate this information or the Department decides to do so.

1. New Procedures and Processing Requirements for Influential Information. The responsibility for determining what constitutes influential information to be disseminated, and hence the quality standards to which the information should be held rests with each HUD Assistant Secretary. Each HUD Assistant Secretary is currently developing and documenting, and will make available upon written request, specific review and approval procedures for information he/she determines will have or does have a clear and substantial impact on important public policies or important private sector decisions. These procedures will include references to the types of issuances covered, as well as examples of such issuances. These procedures may include independent peer reviews (internal and/or external) of the information to ensure statistical and/or analytical integrity. Finally, each HUD Assistant Secretary is responsible for ensuring that this type of information is reviewed and approved, prior to dissemination, according to the written procedures he/she has established, and that the review and approval of each issuance is adequately documented. The above-mentioned responsibilities and authorities may not be delegated.

Any issuance of information that has not been subjected to the procedures identified in the previous paragraph, but which, in the view of the responsible HUD Assistant Secretary, requires a higher quality standard than outlined under the procedures for ensuring quality of information at the basic standard, must be cleared through Departmental clearance.

I. Administrative Correction Mechanisms

To facilitate review by affected persons, this section establishes administrative mechanisms allowing affected persons to seek and obtain, where appropriate, timely correction of information maintained and disseminated by HUD. These administrative mechanisms have been designed to be flexible, appropriate to the nature and timeliness of the disseminated information, and incorporated into HUD's existing information resources management and administrative practices.

An affected person (see Section VII, Paragraph G under “Definitions and Standards”) may request the timely correction of information disseminated by HUD. This includes persons who are seeking to address information about themselves as well as persons who use information.

In determining whether to respond to a complaint, the Department will consider whether the information or the request for correction is “stale.” If HUD did not disseminate this information recently (i.e., within one year of the information correction request), or it does not have a continuing impact on HUD projects or policy decisions or on important private sector decisions, the Department may regard the information as “stale” for purposes of responding to a correction request, unless the complainant demonstrates that the information has an impact on the affected person.

The correction process is designed to address the genuine and valid needs of HUD and its constituents without disrupting agency operations. HUD, in making a determination of whether or not to correct information, may reject claims made in bad faith or without justification. HUD will explain decisions to deny or limit corrective actions in annual reports to OMB on complaints regarding agency compliance with these guidelines.

Documents and information disseminated, but not sponsored, by HUD are not covered by these guidelines. In disseminating such materials, HUD assumes no responsibility for their accuracy and is simply ensuring that the public has quicker and easier access to such materials.

Rulemakings and Other Public Comment Procedures—HUD will consider requests for correction of a study, analysis or other information prior to the final agency action or information product if: (1) HUD determines that its response would not unduly delay final issuance of the HUD action or information product, and (2) the complainant shows a reasonable likelihood of suffering actual harm from HUD's dissemination if HUD does not resolve the complaint prior to the final agency action or information product.

With respect to the correction of OIG information, as used below: “Office of the Assistant Secretary for Administration” shall be understood to mean the Office of Inspector General, U.S. Department of Housing and Urban Development, 451 Seventh Street, SW, Room 8256, Washington, DC 20410; the “Assistant Secretary of the office that originated the subject information,” the “responsible Assistant Secretary” and/or the “Assistant Secretary” shall be understood to mean the Assistant Inspector General for Audit; and the “Assistant Secretary for Administration” shall be understood to mean the Deputy Inspector General.

J. Process for Requesting Correction to Disseminated Information

1. Submitting Requests. If an affected person believes that disseminated information does not comply with the standards set forth in these guidelines, he/she may submit a written request for correction to the Office of the Assistant Secretary for Administration which will assign the request to the Assistant Secretary of the office that disseminated the subject information. The request may be submitted by letter or by e-mail through HUD's website and should contain the following items:

a. A statement that a request for correction of information is submitted under HUD's Information Quality Guidelines;

b. The complainant's name, mailing address, e-mail address, telephone number, facsimile (fax) number, and organizational affiliation, if any. HUD will not respond to anonymous requests;

c. A clear identification of the information dissemination source (e.g., report, data set, or other document) and the information asserted to be incorrect;

d. A description of how the information in question affects the complainant or the affected person(s) for whom the correction request is being submitted (e.g., how an alleged error causes harm, and/or how the correction will be of benefit or use);

e. A description of the specific information that the complainant wants the Department to correct. Where possible, the request should include such identifying characteristics as the name of the HUD office that originated the data, title, date, etc.;

f. A description of why the complainant believes the information in question is inconsistent with the Department's or OMB's information quality guidelines (i.e., how the information fails to meet standards of integrity, utility, and/or objectivity);

g. Specific recommendations for what corrections HUD should make to the information in question and reasons for believing that these recommended corrections would make the information consistent with the Department's information quality guidelines; and,

h. Documentary evidence believed to be relevant to the request (e.g., comparable data or research results on the same topic).

Written requests sent via letter should be addressed to: U.S. Department of Housing and Urban Development, Assistant Secretary for Administration, Seventh Street, SW., Washington, DC 20410.

HUD currently is evaluating both new and existing e-mail response software to further facilitate implementing these final procedures for responding to information correction requests received via HUD's web mail system. HUD's internal operating procedures and associated responsibilities/authorities for appropriately responding to and tracking information correction requests will be included in HUD's formal web posting procedures. These procedures will be available to the public.

2. Rejecting Requests. Once the responsible Assistant Secretary receives a request for correction of information, he/she will review the request to determine if it is valid using the following guidelines:

a. Did HUD (as opposed to some other person or organization) actually disseminate the information HUD is being asked to correct?

b. Is the complainant affected by the information in question or is the person(s) for whom the correction request is being submitted affected by the information in question?

c. Did HUD disseminate this information recently (i.e., within one year of the request), or does the information have a continuing impact on HUD projects or policy decisions, on important private sector decisions, or on affected persons?

d. With respect to information in a final rule, final environmental impact statement, or other final document where there was an opportunity for public comment or participation, could interested persons have requested the correction of the information in question at the proposed stage and, if so, has the complainant shown a reasonable likelihood of an affected person suffering actual harm from HUD's dissemination if HUD does not resolve the complaint prior to the final agency action or information product?

e. Is the information in question exempt from these Guidelines?

f. Is the request frivolous or not germane to the substance of the information in question?

g. Has HUD responded previously to a request that is the same or substantively very similar?

If the responsible Assistant Secretary determines that the answer to Question a, b, c, or d is “no” or that the answer to Question e, f, or g is “yes,” then HUD will reject the request. If the request is rejected, the responsible Assistant Secretary will respond in writing within 60 calendar days of receiving the request. Written responses may be sent via letter, e-mail or facsimile (fax).

3. Processing Requests. If a request is not rejected, the responsible Assistant Secretary will review the request to determine if it contains sufficient information to address items “a” through “h” above under “Submitting Request.” If it does not, he/she will either advise the requester of the additional information required or otherwise state why the request is insufficient. The responsible Assistant Secretary will respond to a request within 60 calendar days from the date of receipt. However, if the request requires more than 60 calendar days to respond, the responsible Assistant Secretary will inform the complainant that more time is required, and indicate the reason why and an estimated decision date. All responses will be in writing and may be done via letter, e-mail or facsimile (fax). Circumstances warranting an extension may include, but are not limited to, a need to: review many records identified in a single request; consult with another federal agency having a substantial interest in the request; or, consult with two or more HUD offices having a substantial interest in the request.

The responsible Assistant Secretary will coordinate with HUD officials as appropriate to determine whether or not to correct information. HUD will correct information and disseminate the corrected information only to the degree and in the manner that the responsible Assistant Secretary, in consultation with HUD officials as he/she deems appropriate, concludes is appropriate for the nature and timeliness of the information involved. Each Assistant Secretary will maintain a record of all information dissemination correction requests and decisions for a period of at least five years. Each Assistant Secretary will aggregate the data for his/her area annually, and provide the aggregated data to the Assistant Secretary for Administration, who is responsible for preparing HUD's annual report to OMB regarding requests for correcting information (see “Submitting Annual Reports to OMB”). The report prepared by the Assistant Secretary should differentiate between requests for correction to website information and corrections requested to other information disseminated under the jurisdiction of the Assistant Secretary.

4. Appealing Corrective Decisions. If the affected person requesting a correction does not agree with HUD's decision (including the corrective action, if any), the person may petition for reconsideration. The written request for reconsideration must be submitted within 60 calendar days of the date of the decision letter. Generally, the Assistant Secretary for Administration (or his/her designee), in consultation with such other HUD Assistant Secretaries as appropriate, and the office from which the information was disseminated, will review HUD's decision and basis thereof and respond to requests for appeal within 60 calendar days of the date of receiving the petition for reconsideration. Additionally, if the Assistant Secretary for Administration believes that another agency(ies) may have an interest in the resolution of an appeal, he/she should consult with those other agencies about their possible interest in the matter. If the request requires more than 60 calendar days to resolve, the Assistant Secretary for Administration will inform the complainant that more time is required, indicating the reason why and an estimated decision date. The Assistant Secretary for Administration will notify the Assistant Secretary and the complainant of the final decision and what corrective action, if any, the agency will take. Decisions on petitions for reconsideration are final and further petitions or appeals will be disregarded.

Appeals for reconsideration must be in writing. The envelope and the reconsideration request both should be clearly marked “Information Correction Reconsideration Request” and addressed to: U.S. Department of Housing and Urban Development, Assistant Secretary for Administration, 451 Seventh Street, SW., Washington, DC 20410.

K. Submitting Annual Reports to OMB

HUD will submit annual reports to the Director of OMB on the number and nature of complaints received concerning agency compliance with these guidelines beginning January 1, 2004. Reports, prepared by the Assistant Secretary for Administration, will contain complaint and correction information dealt with during each fiscal year and will be submitted no later than January 1 of the following year. The report is to contain both quantitative and qualitative information about the complaints received, the nature of the complaints, and the resolution of those complaints. The report is to include an explanation of agency decisions to deny or limit corrective action. HUD will develop a uniform process for tracking, collecting, and reporting on the disposition of information correction requests.

The first report will cover Fiscal Year 2003 and be submitted to OMB by January 1, 2004.

Dated: November 8, 2002.
Alphonso Jackson,
Deputy Secretary.

[FR Doc. 02-29195 Filed 11-13-02; 1:53 pm]

BILLING CODE 4210-01-P